DEPARTMENT OF THE TREASURY

Internal Revenue Service

26 CFR Part 301

[REG-120137-19]

RIN 1545-BP66

Update of Regulations Regarding Payment of Tax by Commercially Acceptable Means; Hearing Cancellation

AGENCY: Internal Revenue Service (IRS), Treasury.

ACTION: Cancellation of a notification of public hearing.

SUMMARY: This document cancels a public hearing on the proposed rule that related to the payment of tax by commercially acceptable means and reflect changes to the law made by the Taxpayer First Act that would allow the IRS to directly accept payments of tax by credit or debit card, without having to connect taxpayers to third-party payment processors.

DATES: The public hearing scheduled for December 6, 2024, at 10:00 a.m. Eastern Time (ET) is cancelled.

ADDRESSES: Public comments submitted for the proposed rule (89 FR 54746, July 2, 2024) can be viewed electronically via the Federal eRulemaking Portal at https://www.regulations.gov by searching REG-120137-19.

FOR FURTHER INFORMATION CONTACT: Concerning the proposed regulations, Crystal Jackson-Kaloz, Office of Chief Counsel (Procedure and Administration) at (202) 317-5191 (not a toll-free number); or any other concerns contact: Publications and Regulations Section at (202) 317-6901 (not a toll-free number), or by email at publichearings@irs.gov (preferred).

SUPPLEMENTARY INFORMATION: A notification of public hearing (REG-120137-19) that was published in the Federal Register on Friday, October 18, 2024 (89 FR 83825), announced that a public hearing held in person and by teleconference was scheduled for December 6, 2024, at 10 a.m. E.T. The subject of the public hearing is under 26 CFR part 301. The public comment period for these regulations expired on September 24, 2024. The notification of public hearing instructed those interested in testifying at the public hearing to submit a request to testify and an outline of the topics to be addressed by November 6, 2024. We did not receive any requests to testify at the Public Hearing. Therefore, the public hearing scheduled for December 6, 2024, at 10 a.m. ET is cancelled.

Regina L. Johnson,
Federal Register Liaison, Publications and Regulations Section, Associate Chief Counsel (Procedure and Administration).

[FR Doc. 2024-28462 Filed 12-4-24; 8:45 am]

BILLING CODE 4830-01-P